FEDERAL MARITIME COMMISSION

[Docket Nos. 21-13, 21-14, 21-15]

Policy Statements on Representative Complaints, Attorney Fees, and Retaliation

AGENCY: Federal Maritime Commission.

ACTION: Notice of Availability.

SUMMARY: The Federal Maritime Commission (Commission) is issuing this notice to advise the public of the availability of three new policy statements related to private party complaints. The Commission adopted the recommendation of the Fact Finding Officer in Fact Finding No. 29: International Ocean Transportation Supply Chain Engagement to issue policy statements on the ability of shippers' associations and trade associations to file complaints with the Commission, the standard for recovering attorney fees in private party complaints, and the anti-retaliation provision of the Shipping Act.

ADDRESSES: The policy statements can be found at the following link: https://www.fmc.gov/resources-services/filing-a-shipping-act-complaint/.

FOR FURTHER INFORMATION CONTACT: William Cody, Secretary; Phone: (202) 523-5725; Email: secretary@fmc.gov.

SUPPLEMENTARY INFORMATION: On December 28, 2021, the Commission issued three policy statements to provide guidance to shippers and others on bringing private party complaints at the Commission and to address barriers identified by the trade community as disincentives to filing actions at the agency. The Commission voted in September 2021 to adopt the recommendation of the Fact Finding Officer of Fact Finding No. 29: International Ocean Transportation Supply Chain Engagement to issue policy statements on the anti-retaliation provision of the Shipping Act (46 U.S.C. 41104(a)(3)), the standard for recovering attorney fees in private party complaints, and the ability of shippers' associations and trade associations to file a complaint with the Commission alleging a violation of the Shipping Act.

Policy Statement on Representative Complaints: In the first policy statement, the Commission restates that shippers' associations and trade associations may file complaints alleging violations of 46 U.S.C. Chapter 411.

Policy Statement on Attorney Fees: The second policy statement explains the Commission's approach on attorney fees and reiterates that a party who brings an unsuccessful complaint is not automatically required to pay the other party's attorney fees.

Policy Statement on Retaliation: Finally, in the third statement on retaliation, the Commission emphasizes that it broadly defines both who can bring a retaliation complaint, as well as the types of shipper activity that are protected under the existing retaliation prohibitions. This policy statement also addresses the proof necessary for certain retaliation complaints.

The policy statements can be found at the following link: https://www.fmc.gov/resources-services/filing-a-shipping-act-complaint/.

By the Commission.
William Cody,
Secretary.

[FR Doc. 2022-04658 Filed 3-8-22; 8:45 am]

BILLING CODE 6730-02-P